Order of September 22, 2025

Designating Antifa as a Domestic Terrorist Organization

Section 1. Antifa as a Terrorist Threat. Antifa is a militarist, anarchist enterprise that explicitly calls for the overthrow of the United States Government, law enforcement authorities, and our system of law. It uses illegal means to organize and execute a campaign of violence and terrorism nationwide to accomplish these goals. This campaign involves coordinated efforts to obstruct enforcement of Federal laws through armed standoffs with law enforcement, organized riots, violent assaults on Immigration and Customs Enforcement and other law enforcement officers, and routine doxing of and other threats against political figures and activists. Antifa recruits, trains, and radicalizes young Americans to engage in this violence and suppression of political activity, then employs elaborate means and mechanisms to shield the identities of its operatives, conceal its funding sources and operations in an effort to frustrate law enforcement, and recruit additional members. Individuals associated with and acting on behalf of Antifa further coordinate with other organizations and entities for the purpose of spreading, fomenting, and advancing political violence and suppressing lawful political speech. This organized effort designed to achieve policy objectives by coercion and intimidation is domestic terrorism.

Sec. 2. Designation as a Domestic Terrorist Organization. Because of the aforementioned pattern of political violence designed to suppress lawful political activity and obstruct the rule of law, I hereby designate Antifa as a “domestic terrorist organization.” All relevant executive departments and agencies shall utilize all applicable authorities to investigate, disrupt, and dismantle any and all illegal operations—especially those involving terrorist actions—conducted by Antifa or any person claiming to act on behalf of Antifa, or for which Antifa or any person claiming to act on behalf of Antifa provided material support, including necessary investigatory and prosecutorial actions against those who fund such operations.

Sec. 3. General Provisions. (a) This order shall be implemented consistent with applicable law. This order is not intended to, and does not, create any right or benefit, substantive or procedural, enforceable at law or in equity by any party against the United States, its departments, agencies, or entities, its officers, employees, or agents, or any other person.

(b) This order shall be published in the Federal Register.

THE WHITE HOUSE,

September 22, 2025.

[FR Doc. 2025-18709

Filed 9-24-25; 11:15 am]

Billing code 3395-F4-P